DEPARTMENT OF ENERGY

Federal Energy Regulatory Commission

Sunshine Act Meeting

March 8, 2000.

The Following Notice of Meeting is Published Pursuant to Section 3(A) of the Government in The Sunshine Act (Pub. L. No. 94-409), 5 U.S.C 552B:

AGENCY HOLDING MEETING: Federal Energy Regulatory Commission

DATE AND TIME: March 15, 2000, 10:00 a.m.

PLACE: Room 2C 888 First Street, N.E. Washington, D.C. 20426.

STATUS: Open.

MATTERS TO BE CONSIDERED: Agenda * Note—Items Listed on the Agenda may be deleted without further notice.

CONTACT PERSON FOR MORE INFORMATION: David P. Boergers, Secretary, Telephone (202) 208-0400, For a recording listing items stricken from or added to the meeting, call (202) 208-1627.

This is a list of matters to be considered by the Commission. It does not include a listing of all papers relevant to the items on the agenda; however, all public documents may be examined in the reference and information center.

Consent Agenda—Hydro, 736th—Meeting March 15, 2000, Regular Meeting (10:00 a.m.)

CAH-1.

Docket# EL95-49, 001, Fourth Branch Associates v. Niagara Mohawk Power Corporation

Other#s P-6032, 040, Fourth Branch Associates v. Niagara Mohawk Power Corporation

CAH-2.

Docket# P-6559, 015, H. Bruce Cox

CAH-3.

Docket# P-4632, 021, Clifton Power Corporation

Other#s P-4632, 023, Clifton Power Corporation

CAH-4.

Docket# P-459, 105, The Coalition for the Fair and Equitable Regulation of Docks on Lake of the Ozarks, Inc. V. Union Electric Company, D.B.A. Amerenue

Consent Agenda—Electric

CAE-1.

Docket# ER00-1139, 000, Gleason Power I, L.L.C.

Other#s ER00-1140, 000, Des Plaines Green Land DevelopmenT, L.L.C.

ER00-1141, 000, West Fork Land Development Company, L.L.C.

ER00-1147, 000, Aes Londonderry, LLC

ER00-1171, 000, Tiverton Power Associates Limited Partnership

CAE-2.

Omitted

CAE-3.

Docket# ER00-1182, 000, Puget Sound Energy, Inc.

CAE-4.

Docket# ER00-1258, 000, First Electric Cooperative Corporation

Other#s EL00-37, 000, First Electric Cooperative Corporation

CAE-5.

Docket# ER00-1175, 000, NSP Operating Companies

CAE-6.

Omitted

CAE-7.

Docket# ER97-1523, 022, Central Hudson Gas & Electric Corporation, Consolidated Edison Company of New York, Inc., New York State Electric and Gas Corporation, Niagara Mohawk Power Corporation, Orange and Rockland Utilities, Inc., New York Power Authority and Rochester Gas and Electric Corporation

CAE-8.

Docket# OA97-163, 008, Mid-Continent Area Power Pool

Other#s OA97-658, 008, Mid-Continent Area Power Pool

ER97-1162, 007, Mid-Continent Area Power Pool

CAE-9.

Docket# ER99-2609, 000, Firstenergy Operating Companies

Other#s EL99-71, 000, Firstenergy Operating Companies

EL99-71, 001, Firstenergy Operating Companies

ER99-2609, 002, Firstenergy Operating Companies

ER99-2647, 000, American Transmission Systems, Inc.

CAE-10.

Docket# ER99-3084, 000, Entergy Services, Inc.

Other#s ER99-3093, 000, Entergy Services, Inc.

ER99-3133, 000, Entergy Services, Inc.

ER99-3175, 000, Entergy Services, Inc.

ER99-3176, 000, Entergy Services, Inc.

ER99-3188, 000, Entergy Services, Inc.

ER99-3252, 000, Entergy Services, Inc.

ER99-3302, 000, Entergy Services, Inc.

ER99-3315, 000, Entergy Services, Inc.

ER99-3960, 000, Entergy Services, Inc.

CAE-11.

Docket# ER99-3393, 000, PJM Interconnection, L.L.C.

CAE-12.

Docket# EC00-38, 000, Peco Energy Company

Other#s EL00-26, 000, Susquehanna Power Company

ER00-803, 000, Peco Energy Power Company

CAE-13.

Docket# EC00-34, 000, Atlantic City Electric Company, Delmarva Power & Light Company and Peco Energy Company

Other#s EC00-35, 000, Atlantic City Electric Company, Delmarva Power & Light Company and PSEG Nuclear LLC

CAE-14.

Omitted

CAE-15.

Docket# EF99-3021, 000, United States Department of Energy—Southeastern Power Administration

CAE-16.

Omitted

CAE-17.

Omitted

CAE-18.

Docket# EL99-54, 001, San Francisco Bay Area Rapid Transit District v. Pacific Gas and Electric Company

CAE-19.

Omitted

CAE-20.

Docket# ER99-2332, 001, Sierra Pacific Power Company

CAE-21.

Omitted

CAE-22.

Docket# EL99-58, 000, Village of Freeport, New York v. Consolidated Edison Company of New York, Inc.

CAE-23.

Docket# NJ99-3, 000, Salt River Project Agricultural Improvement and Power District

CAE-24.

Docket# EL00-32, 000, Public Service Company of Colorado

CAE-25.

Omitted

CAE-26.

Docket# EL00-12, 000, Tennessee Power Company

CAE-27.

Docket# EL98-36, 000, Aquila Power Corporation v. Entergy Services, Inc., Entergy Arkansas, Inc., Entergy Louisiana, Inc., Entergy Mississippi, Inc., Entergy New Orleans, Inc. and Entergy Gulf States, Inc.

Other#s ER91-569, 009, Entergy Services, Inc.

CAE-28.

Docket# EL00-20, 000, Southern California Water Company, d.b.a Bear Valley Electric v. Southern California Edison Company

CAE-29.

Docket# EL99-92, 000, Midamerican Energy Company

CAE-30.

Docket# EL00-24, 000, The Village of Jackson Center, Ohio, The Village of Versailles, Ohio and The City of Tipp City, Ohio v. The Dayton Power & Light Company

CAE-31.

Docket# EL99-66, 000, Wabash Valley Power Association and American Municipal Power-Ohio, Inc. v. American Electric Power Service Corporation

Other#s EL99-72, 000, Indiana Municipal Power Agency v. American Electric Power Service Corporation

CAE-32.

Docket# OA00-2, 000, Midamerican Energy Company

Consent Agenda—Gas and Oil

CAG-1.

Docket# RP00-180, 000, Williston Basin Interstate Pipeline Company

CAG-2.

Docket# RP00-182, 000, Young Gas Storage Company, Ltd.

CAG-3.

Docket# RP99-286, 000, Granite State Gas Transmission, Inc.

Other#s RP99-286, 001, Granite State Gas Transmission, Inc.

CAG-4.

Docket# RP99-176, 010, Natural Gas Pipeline Company of America

CAG-5.

Docket# RP00-76, 001, Wyoming Interstate Company, Ltd.

CAG-6.

Docket# RP00-181, 000, MIGC, Inc.

CAG-7.

Docket# RP00-108, 001 ,Questar Pipeline Company

CAG-8.

Docket# RP99-330, 001, Consumer Services Association, Inc. d/b/2 United Gas Services v. K N Interstate Gas Transmission Company and K N Energy, Inc.

CAG-9.

Omitted

CAG-10.

Docket# RP97-71, 000, Transcontinental Gas Pipe Line Corporation

CAG-11.

Docket# PR99-19, 000, Oneok Gas Storage, L.L.C. and Oneok Sayre Storage Company

CAG-12.

Docket# RP87-15 et al., 036, Trunkline Gas Company, et al.

Other#s RP92-122, 008, Trunkline LNG Company

CAG-13.

Docket# RP96-312, 017, Tennessee Gas Pipeline Company

Other#s RP96-312, 025, Tennessee Gas Pipeline Company

RP96-312, 026, Tennessee Gas Pipeline Company

GT99-26, 002, Tennessee Gas Pipeline Company

CAG-14.

Docket# RP99-335, 001, Transwestern Pipeline Company

CAG-15.

Docket# RP97-375, 009, Wyoming Interstate Company, Ltd.

Other#s RP99-381, 000, Wyoming Interstate Company, Ltd.

CAG-16.

Omitted

CAG-17.

Docket# RP00-8, 003, Reliant Energy Gas Transmission Company

CAG-18.

Docket# GP91-8, 008, Jack J. Grynberg v. Rocky Mountain Natural Gas Company

Other#91-10, 008, Rocky Mountain Natural Gas Company v. Jack J. Grynberg

CAG-19.

Docket# OR99-3, 000, Frontier Oil and Refining Company v. Express Pipeline Partnership

CAG-20.

Docket# MG99-26, 001, Dauphin Island Gathering Partners

CAG-21.

Docket# CP98-238, 002, Destin Pipeline Company, L.L.C.

CAG-22.

Docket# CP00-41, 000, Questar Pipeline Company

CAG-23.

Docket# CP00-56, 000, Atmos Energy Corporation

Other#s CP00-60, 000, Associated Natural Gas Company

CAG-24.

Docket# CP99-615, 000, Petal Gas Storage, L.L.C.

CAG-25.

Docket# CP99-21, 000, Northern Border Pipeline Company

CAG-26.

Docket# CP99-579, 001, Southern LNG Inc.

Other#s CP99-580, 001, Southern LNG Inc.

CP99-581, 001, Southern LNG Inc.

CP99-582, 002, Southern LNG Inc.

CAG-27.

Docket# CP99-61, 002, Tristate Pipeline, L.L.C.

Other#s CP99-62, 002, Tristate Pipeline, L.L.C.

CP99-63, 002, Tristate Pipeline, L.L.C.

CP99-64, 002, Tristate Pipeline, L.L.C.

CAG-28.

Docket# RM98-17, 001, Landowner Notifications, Expanded Categorical Exclusions, and Other Environmental Filing Requirements

CAG-29.

Docket# PR00-1, 000, Oneok Field Services Company

Other#s PR00-1, 001, Oneok Field Services Company

CAG-30.

Docket# CP97-549, 001, CNG Transmission Corporation

CAG-31.

Docket# GP97-1, 002, Rocky Mountain Natural Gas Company

CAG-32.

Docket# RP99-504, 000, Willians Gas Pipelines Central, Inc.

Hydro Agenda

H-1. Reserved

Electic Agenda

E-1.

Docket# EC98-40, 000, Americal Electric Power Company and Central and South West Corporation

Other# ER98-2770, 000, American Electric Power Company and Central and South West Corporation

ER98-2786, 000, American Electric Power Company and Central and South West Corporation Opinion and Order on Merger.

Oil and Gas Agenda

I. Pipeline Rate Matters

PR-1.

Reserved

II. Pipeline Certificate Matters

PC-1.

Reserved

David P. Boergers,
Secretary.

[FR Doc. 00-6163 Filed 3-9-00; 11:41 am]

BILLING CODE 6717-01-P